DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended (hereinafter “the Act”). The Department is providing notice of a proposed subsequent arrangement under the Agreement for Cooperation Concerning Civil Uses of Nuclear Energy Between the Government of the United States of America and the Government of Canada, and the Agreement Between the Government of the United States of America and the Government of Japan Concerning Peaceful Uses of Nuclear Energy.

DATES: This subsequent arrangement will take effect no sooner than September 6, 2013.

FOR FURTHER INFORMATION CONTACT: Mr. Sean Oehlbert, Office of Nonproliferation and International Security, National Nuclear Security Administration, Department of Energy. Telephone: 202-586-3806 or email: Sean.Oehlbert@nnsa.doe.gov.

SUPPLEMENTARY INFORMATION: This subsequent arrangement concerns the retransfer of 10,227 kg of U.S.-origin natural uranium dioxide, 9,000 kg of which is uranium, from Cameco Corporation (Cameco) in Port Hope, Ontario, Canada, to Global Nuclear Fuel-Japan Co., Ltd. in Kanagawa-ken, Japan. The material, which is currently located at Cameco, will be fabricated into fuel pellets and used by Electric Power Development Co. Ltd. located in Tokyo. The material was originally obtained by Cameco from Denison Mines pursuant to export license XSOU8798.

In accordance with section 131a. of the Act, it has been determined that this subsequent arrangement concerning the retransfer of nuclear material of United States origin will not be inimical to the common defense and security.

Dated: August 9, 2013.
For the Department of Energy.
Anne M. Harrington,
Deputy Administrator, Defense Nuclear Nonproliferation.

[FR Doc. 2013-20490 Filed 8-21-13; 8:45 am]

BILLING CODE 6450-01-P